DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of February 12, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Scott County, Minnesota and Incorporated Areas
Docket Nos.: FEMA-B-1436 and B-1869
City of Belle Plaine | City Hall, 218 North Meridian Street, Belle Plaine, MN 56011.
City of Elko New Market | City Hall, 601 Main Street, Elko New Market, MN 55054.
City of Jordan | City Hall, 210 East First Street, Jordan, MN 55352.
City of Prior Lake | City Hall, 4646 Dakota Street Southeast, Prior Lake, MN 55372.
City of Savage | City Hall, 6000 McColl Drive, Savage, MN 55378.
City of Shakopee | City Hall, 485 Gorman Street, Shakopee, MN 55379.
Unincorporated Areas of Scott County | County Government Center, 200 Fourth Avenue West, Shakopee, MN 55379.
Archer County, Texas and Incorporated Areas
Docket No.: FEMA-B-1959
City of Archer City | City Hall, 118 South Sycamore Street, Archer City, TX 76351.
City of Holliday | City Office, 110 West Olive Street, Holliday, TX 76366.
City of Lakeside City | Lakeside City Map Repository, 199 Bowman Road, Wichita Falls, TX 76308.
City of Megargel | City Hall, 1302 Cedar Street, Megargel, TX 76370.
City of Scotland | City Hall, 727 Avenue L, Scotland, TX 76379.
City of Windthorst | City Sewer Plant, 361 Sewer Plant Road, Windthorst, TX 76389.
Unincorporated Areas of Archer County | Archer County Courthouse Emergency Management Office, 100 South Center Street, Archer City, TX 76351.
Jack County, Texas and Incorporated Areas
Docket No.: FEMA-B-1959
City of Bryson | City Hall, 102 North Depot Street, Bryson, TX 76427.
City of Jacksboro | Fire Department, 128 East College Street, Jacksboro, TX 76458.
Unincorporated Areas of Jack County | Jack County Office, 100 North Main Street, Jacksboro, TX 76458.

[FR Doc. 2020-22085 Filed 10-5-20; 8:45 am]

BILLING CODE 9110-12-P